DEPARTMENT OF ENERGY

Federal Energy Regulatory Commission

Combined Notice of Filings #1

Take notice that the Commission received the following electric corporate filings:

Docket Numbers: EC16-146-000.

Applicants: Great Plains Energy, Westar Energy, Inc.

Description: Great Plains Energy Incorporated, et. al. submits order issued by the Missouri Public Service Commission, et. al.

Filed Date: 3/3/17.

Accession Number: 20170303-5211.

Comments Due: 5 p.m. ET 3/24/17.

Take notice that the Commission received the following electric rate filings:

Docket Numbers: ER10-3297-009.

Applicants: Powerex Corporation.

Description: Notice of Non-Material Change in Status and Request for Confidential Treatment of Powerex Corporation.

Filed Date: 3/3/17.

Accession Number: 20170303-5210.

Comments Due: 5 p.m. ET 3/24/17.

Docket Numbers: ER13-1935-002.

Applicants: South Carolina Electric & Gas Company.

Description: Compliance filing: Attachment K Compliance filing 3-6-2017 to be effective 1/1/2015.

Filed Date: 3/6/17.

Accession Number: 20170306-5095.

Comments Due: 5 p.m. ET 3/27/17.

Docket Numbers: ER13-2318-006; ER16-2515-001; ER16-2278-001; ER13-2317-006; ER13-2319-006.

Applicants: All Dams Generation, LLC, Black River Hydroelectric, LLC, Cube Yadkin Generation LLC, Lake Lynn Generation, LLC, PE Hydro Generation, LLC.

Description: Notice of Non-Material Change in Status of All Dams Generation, LLC, et. al.

Filed Date: 3/3/17.

Accession Number: 20170303-5212.

Comments Due: 5 p.m. ET 3/24/17.

Docket Numbers: ER16-372-003.

Applicants: PJM Interconnection, L.L.C.

Description: Compliance filing: Compliance Filing Pursuant to the Commission's February 3, 2017 Order to be effective 5/15/2017.

Filed Date: 3/6/17.

Accession Number: 20170306-5158.

Comments Due: 5 p.m. ET 3/27/17.

Docket Numbers: ER16-711-004; ER10-2862-004; ER11-4625-004; ER13-2169-003; ER11-3634-004.

Applicants: Pio Pico Energy Center, LLC, Harbor Cogeneration Company, LLC, Colton Power L.P., Goal Line L.P., KES Kingsburg, L.P.

Description: Notice of Non-Material Change in Status of Pio Pico Energy Center, LLC.

Filed Date: 3/6/17.

Accession Number: 20170306-5210.

Comments Due: 5 p.m. ET 3/27/17.

Docket Numbers: ER16-1564-000.

Applicants: The AES Corporation.

Description: Amendment to April 29, 2016 Election for Review and Authorization of The AES Corporation pursuant to Section 1275 of the Energy Policy Act of 2015.

Filed Date: 2/22/17.

Accession Number: 20170222-5202.

Comments Due: 5 p.m. ET 3/17/17.

Docket Numbers: ER17-156-002.

Applicants: Midcontinent Independent System Operator, Inc.

Description: Compliance filing: 2017-03-06_Compliance filing of Queue Reform Attachment X to be effective 1/4/2017.

Filed Date: 3/6/17.

Accession Number: 20170306-5159.

Comments Due: 5 p.m. ET 3/27/17.

Docket Numbers: ER17-512-002.

Applicants: Virginia Electric and Power Company.

Description: Compliance filing: Compliance Filing—Doswell Cogentrix Informational Filing to be effective N/A.

Filed Date: 3/6/17.

Accession Number: 20170306-5172.

Comments Due: 5 p.m. ET 3/27/17.

Docket Numbers: ER17-1106-000.

Applicants: Southwest Power Pool, Inc.

Description: § 205(d) Rate Filing: 2998 RPM Access & Westar Energy Meter Agent Agr Cancellation to be effective 5/9/2017.

Filed Date: 3/7/17.

Accession Number: 20170307-5011.

Comments Due: 5 p.m. ET 3/28/17.

Docket Numbers: ER17-1107-000.

Applicants: Southwest Power Pool, Inc.

Description: § 205(d) Rate Filing: 3160 Basin Electric & MidAmerican Energy Att AO Cancellation to be effective 3/1/2017.

Filed Date: 3/7/17.

Accession Number: 20170307-5016.

Comments Due: 5 p.m. ET 3/28/17.

Docket Numbers: ER17-1108-000.

Applicants: Southwest Power Pool, Inc.

Description: § 205(d) Rate Filing: 3306 NPPD and Basin Electric Interconnection Agreement to be effective 2/21/2017.

Filed Date: 3/7/17.

Accession Number: 20170307-5032.

Comments Due: 5 p.m. ET 3/28/17.

Docket Numbers: ER17-1109-000.

Applicants: Southwest Power Pool, Inc.

Description: § 205(d) Rate Filing: 3159 Basin Electric & MidAmerican Energy Att AO Cancellation to be effective 3/1/2017.

Filed Date: 3/7/17.

Accession Number: 20170307-5037.

Comments Due: 5 p.m. ET 3/28/17.

Docket Numbers: ER17-1110-000.

Applicants: Southwest Power Pool, Inc.

Description: § 205(d) Rate Filing: 3305 CP Bloom Wind and Sunflower Electric Meter Agent Agreement to be effective 4/1/2017.

Filed Date: 3/7/17.

Accession Number: 20170307-5041.

Comments Due: 5 p.m. ET 3/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2017.
Nathaniel J. Davis, Sr.,
Deputy Secretary.

[FR Doc. 2017-05122 Filed 3-14-17; 8:45 am]

BILLING CODE 6717-01-P